DEPARTMENT OF VETERANS AFFAIRS

Privacy Act of 1974; System of Records

AGENCY: Veterans Benefits Administration, Department of Veterans Affairs (VA).

ACTION: Rescindment of a System of Records.

SUMMARY: The U.S. Department of Veterans Affairs is terminating a system of records, “Veterans and Beneficiaries Identification Records Location Subsystem—VA” (BIRLS), 38VA21, that is no longer in use and/or has been consolidated with the “Compensation, Pension, Education, and Vocational Rehabilitation and Employment Records-VA” (58VA21/22/28).

DATES: VA will stop maintaining the system of records on August 20, 2021. Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Veterans and Beneficiaries Identification Records Location Subsystem-VA” (38VA21). Comments received will be available at regulations.gov for public viewing, inspection or copies.

FOR FURTHER INFORMATION CONTACT: Kimberly A. Newell, Sr. Program Analyst, Office of Business Integration, U.S. Department of Veterans Affairs, 810 Vermont Avenue NW, Washington, DC 20420, (708) 834-3149, or email kimberly.newell@va.gov. Please include your complete mailing address with your request.

SUPPLEMENTARY INFORMATION: Authoritative data stored in BIRLS was migrated to other systems and may be referenced under “Compensation, Pension, Education, and Vocational Rehabilitation and Employment Records-VA” (58VA21/22/28) 84 FR 4138.

Signing Authority

The Senior Agency Official for Privacy, or designee, approved this document and authorized the undersigned to sign and submit the document to the Office of the Federal Register for publication electronically as an official document of the Department of Veterans Affairs. Neil C. Evans, M.D., Chief Officer, Connected Care, Performing the Delegable Duties of the Assistant Secretary for Information and Technology and Chief Information Officer, approved this document on October 6, 2021 for publication.

Dated: October 6, 2021.
Amy L. Rose,
Program Analyst, VA Privacy Service, Office of Information Security, Office of Information and Technology, Department of Veterans Affairs.

SYSTEM NAME AND NUMBER:

Beneficiaries Identification Records Location System (BIRLS), VASI ID #1053 (38VA21),

HISTORY:

The SORN was last published June 04, 2001. Citation to the last Federal Register notice is 66 FR 300049.

[FR Doc. 2021-22151 Filed 10-8-21; 8:45 am]

BILLING CODE P